DEPARTMENT OF COMMERCE

Foreign-Trade Zones Board

[B-66-2015]

Proposed Foreign-Trade Zone—Hitchcock, Texas; Amendment of Application

A request has been submitted to the Foreign-Trade Zones (FTZ) Board (the Board) by the Port of Houston Authority (PHA), grantee of FTZ 84, at the request of the City of Hitchcock, to amend the City's pending application requesting authority to establish a new foreign-trade zone in Hitchcock, Texas. The pending application was docketed on October 6, 2015 (FTZ Board Docket B-66-2015, 80 FR 61358, October 13, 2015).

PHA is requesting authority to include the site originally proposed for FTZ designation as part of a new zone in Hitchcock, Texas as an additional magnet site of FTZ 84, adjacent to the Houston Customs and Border Protection port of entry. The proposed site is as follows: Proposed Site 1 (280.54 acres)—Blimp Base, 7529 Blimp Base Road, Hitchcock. If approved, the proposed site would be assigned a new site number under FTZ 84. The amended application is limited to FTZ designation for the proposed Blimp Base site (i.e., it does not request authority for the ASF service area originally proposed in the application).

Public comment is invited from interested parties. Submissions shall be addressed to the Board's Executive Secretary at: Foreign-Trade Zones Board, U.S. Department of Commerce, Room 21013, 1401 Constitution Ave. NW., Washington, DC 20230.

The closing period for their receipt is December 13, 2017. Rebuttal comments in response to material submitted during the foregoing period may be submitted during the subsequent 15-day period (to December 28, 2017).

For further information, contact Camille Evans at Camille.Evans@trade.gov or (202) 482-2350.

Dated: November 6, 2017.
Andrew McGilvray,
Executive Secretary.

[FR Doc. 2017-24518 Filed 11-9-17; 8:45 am]

BILLING CODE 3510-DS-P